DEPARTMENT OF THE INTERIOR

Bureau Of Land Management

[LLORP00000.L10200000.PI0000; HAG 11-0295]

Notice of Public Meeting, John Day-Snake Resource Advisory Council

AGENCY: Bureau of Land Management, Interior.

ACTION: Notice of Public Meeting.

SUMMARY: Pursuant to the Federal Land Policy and Management Act and the Federal Advisory Committee Act, the U.S. Department of the Interior, Bureau of Land Management (BLM) John Day-Snake Resource Advisory Council (RAC) will meet as indicated below:

DATES: The RAC meeting will be held on September 7, 2011 and September 8, 2011.

ADDRESSES: A joint meeting of the John Day-Snake and the Southeast Oregon RACs will be held at 1 Sunridge Lane, Baker City, Oregon, on September 7, 2011. The John Day-Snake RAC will also hold a business meeting at The Always Welcome Inn, 175 Campbell Street, Baker City, Oregon, on September 8, 2011.

FOR FURTHER INFORMATION CONTACT: Mark Wilkening, 100 Oregon Street, Vale, Oregon 97918, (541) 473-6218 or e-mail mwilkeni@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The September 7 meeting will be held from 8 a.m. to 5 p.m. Pacific Daylight Time (PDT) at the Sunridge Inn. Topics may include: The Oregon Sage-grouse Plan, Blue Mountains Forest Plan revision, BLM District's Vegetation EA stepdown, Wilderness Characteristics Inventories, Power/Energy Transmission options, and other matters as may reasonably come before the RACs. The September 8 meeting will be held from 8:30 a.m. to 4:30 p.m. PDT at the Always Welcome Inn. Topics may include Vale District Cultural Inventories, updates by Federal managers on litigation, energy projects, and other issues affecting their districts/units; and other matters as may reasonably come before the Council. All RAC meetings are open to the public; time is set aside for oral comments at 1:15 p.m. on September 7, 2011, and at 1 p.m. on September 8, 2011. Those who verbally address the RAC are asked to provide a written statement of their presentation. Unless otherwise approved by the RAC Chair, the public comment period will last no longer than 15 minutes; each speaker may address the RAC for a maximum of five minutes. If reasonable accommodation is required, please contact the BLM Vale District Office at (541) 473-6218 as soon as possible. Before including your address, phone number, e-mail address, or other personal identifying information in your comment, please be aware that your entire comment—including your personal identifying information—may be made publicly available at any time. While you can ask us in your comment to withhold your personal identifying information from public review, we cannot guarantee that we will be able to do so.

Larry Frazier,
BLM Vale Associate District Manager.

[FR Doc. 2011-19438 Filed 8-1-11; 8:45 am]

BILLING CODE 4310-33-P